DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Wade Green at (301) 761-7505 or greenww@nih.gov. Licensing information may be obtained by communicating with the Technology Transfer and Intellectual Property Office, National Institute of Allergy and Infectious Diseases, 5601 Fishers Lane, Rockville, MD 20852: tel. 301-496-2644. A signed Confidential Disclosure Agreement will be required to receive copies of unpublished information related to the invention.

SUPPLEMENTARY INFORMATION: Technology description follows:

An Innovative Adapter for Expedited and Automated Thawing of viably Frozen Cells.

Description of Technology

This technology is a device and system for expediting the thawing frozen specimens (e.g., cryopreserved cells) contained in cryo-vials, offering a breakthrough solution for researchers seeking efficiency and precision in their workflows. The device is equipped with a small elongated tubular adaptor that suspends a cryo-vial of frozen cells over a centrifuge tube containing culture medium in an inverted position. With a focus on speed, efficiency and automation, the adaptor dramatically expedites the process of recovering viable cells from frozen specimens. It reduces per-sample labor time for thawing from several minutes to a few seconds, enabling a single technician to simultaneously thaw multiple vials within the capacity of centrifuges. The cells, once thawed, are diluted instantly into growth medium contained in the centrifuge tubes and spend essentially no time in liquid cryopreservative.

The automated mechanism ensures a precise and controlled thawing environment maintaining optimal temperature conditions throughout the thawing process.

Potential Commercial Applications:

• This device can be used in sample preparation and cell culturing.

• Applicable for research materials, medical and non-medical devices and consumer products.

Competitive Advantages:

• Provides a faster process of recovering viable cells from frozen specimens.

• Eliminates multi-step processes.

• High throughput system with reduced variability.

• Constant environment control.

Development Stage:

• Prototype

Inventors: Dr. Mario Roederer, Dr. Pratip Chattopadhyay and Margaret Beddall, all of NIAID.

Publications: n/a.

Intellectual Property: HHS Reference No. E-080-2015-0-EIR-00 U.S. Patent Application No. 14/661,449, filed on March 18, 2015; Published Patent Application US20160274004A1 on September 22, 2016; U.S. Patent 9,663,812 issued May 30, 2017.

Licensing Contact: To license this technology, please contact Wade Green at (301) 761-7505 or greenww@nih.gov. and reference E-080-2015.

Collaborative Research Opportunity: The National Institute of Allergy and Infectious Diseases is seeking statements of capability or interest from parties interested in collaborative research to further develop, evaluate, or commercialize this technology. For collaboration opportunities, please contact Wade Green at (301) 761-7505 or greenww@nih.gov.

Dated: February 7, 2024.
Surekha Vathyam,
Deputy Director, Technology Transfer and Intellectual Property Office, National Institute of Allergy and Infectious Diseases.

[FR Doc. 2024-04060 Filed 2-27-24; 8:45 am]

BILLING CODE 4140-01-P